DEPARTMENT OF THE INTERIOR

National Park Service

Notice of Inventory Completion: Thomas Burke Memorial Washington State Museum, University of Washington, Seattle, WA and Northwest Museum of Arts and Culture, Spokane, WA

AGENCY: National Park Service, Interior.

ACTION: Notice.

Notice is here given in accordance with the Native American Graves Protection and Repatriation Act (NAGPRA), 25 U.S.C. 3003, of the completion of an inventory of human remains in the control of the Thomas Burke Memorial Washington State Museum (Burke Museum), University of Washington, Seattle, WA, and in the physical custody of the Northwest Museum of Arts and Culture, Spokane, WA. The human remains were most likely removed from Grant County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Burke Museum professional staff in consultation with representatives of the Confederated Tribes of the Colville Reservation, Washington; Confederated Tribes and Bands of the Yakama Nation, Washington; and Wanapum Band, a non-Federally recognized Indian group.

Between 1939-1940, human remains representing a minimum of one individual were removed from an unknown area most likely within Grant County, WA, by Warren T. Lee (Accn#2008-184). Mr. Lee was an amateur archeologist working along the Columbia River, near Vantage, Grant County, WA, between 1938 and 1954. In 1950, the human remains were received by the Burke Museum. They were later mistakenly transferred to the Cheney Cowles Museum (now the Northwest Museum of Arts and Culture), as part of a return of a loan of human remains from the Collier, Hudson, and Ford collection. The Northwest Museum of Arts and Culture identified the human remains of this individual during their NAGPRA inventory. No known individual was identified. No associated funerary objects are present.

Early and late published ethnographic documentation indicates that the Vantage area was the aboriginal territory of the Moses-Columbia or Sinkiuse, Yakima, and Wanapum (Daugherty 1973, Miller 1998, Mooney 1896, Ray 1936, Spier 1936), whose descendents are represented today by the Confederated Tribes of the Colville Reservation, Washington; Confederated Tribes and Bands of the Yakama Nation, Washington; and Wanapum Band, a non-Federally recognized Indian group.

Officials of the Burke Museum have determined that, pursuant to 25 U.S.C. 3001 (9-10), the human remains described above represent the physical remains of one individual of Native American ancestry. Officials of the Burke Museum have also determined that, pursuant to 25 U.S.C. 3001 (2), there is a relationship of shared group identity that can be reasonably traced between the Native American human remains and the Confederated Tribes of the Colville Reservation, Washington; Confederated Tribes and Bands of the Yakama Nation, Washington; and Wanapum Band, a non-Federally recognized Indian group. Furthermore, officials of the Burke Museum have determined there is a cultural relationship between the human remains and the Wanapum Band, a non-Federally recognized Indian group.

Representatives of any other Indian tribe that believes itself to be culturally affiliated with the human remains should contact Megon Noble, Burke Museum, University of Washington, Box 353010, Seattle, WA 98195-3010, telephone (206) 685-3849, before March 4, 2009. Repatriation of the human remains to the Confederated Tribes of the Colville Reservation, Washington; Confederated Tribes and Bands of the Yakama Nation, Washington; and Wanapum Band, a non-Federally recognized Indian group, may proceed after that date if no additional claimants come forward.

The Burke Museum is responsible for notifying the Confederated Tribes of the Colville Reservation, Washington; Confederated Tribes and Bands of the Yakama Nation, Washington; and Wanapum Band, a non-Federally recognized Indian group, that this notice has been published.

Dated: January 9, 2009
Sherry Hutt,
Manager, National NAGPRA Program.

[FR Doc. E9-2116 Filed 1-30-09; 8:45 am]

BILLING CODE 4312-50-S